DEPARTMENT OF COMMERCE

National Oceanic and Atmospheric Administration

[I.D. 062602F]

Taking and Importing of Marine Mammals

AGENCY: National Marine Fisheries Service (NMFS), National Oceanic and Atmospheric Administration (NOAA), Commerce.

ACTION: Reopening of nomination period for expert panels.

SUMMARY: The Secretary of Commerce is required by the Dolphin Protection Consumer Information Act to conduct specified scientific research under of the Marine Mammal Protection Act and, by December 31, 2002, to make a finding based on the results of that research, on information obtained under the International Dolphin Conservation Program, and on any other relevant information as to whether the intentional deployment on or the encirclement of dolphins with purse seine nets is having a “significant adverse impact” on any depleted dolphin stock in the eastern tropical Pacific Ocean.

This notice reopens the nomination period for scientists to serve on two expert panels referenced in the proposed organized decision process published in the Federal Register on Feb. 15, 2002: the Ecosystem Expert Panel and the Indirect Effects Expert Panel. Each expert panel will assess peer-reviewed scientific studies and other information and individually provide scientific advice to address specific issues the Secretary will be considering in making the final finding. The expert panels are scheduled to meet September 4-6, 2002, in La Jolla, CA.

DATES: The nomination period will be open from June 25, 2002, to July 10, 2002.

ADDRESSES: Nominations should be sent to the Director, NMFS Office of Science and Technology, F/ST, 1315 East-West Highway, Silver Spring, MD, 20910. Nominations may also be sent via facsimile at 301-713-1875. Nominations will not be accepted if submitted via electronic mail or the Internet.

FOR FURTHER INFORMATION CONTACT: Nicole R. Le Boeuf, Office of Protected Resources, NMFS, 301-713-2322.

SUPPLEMENTARY INFORMATION: On May 9, 2002, NMFS published a request for nominations for the two expert panels. The Federal Register notice at 67 FR 31279 provides instructions on the questions and charge of each expert panel, the nomination process, panel member qualifications, the selection process, and the determination of cost reimbursement. It also describes the process NMFS will carry out to solicit nominations, select five qualified scientists for each panel, and recommend them for appointment by the Secretary. The expert panels are scheduled to meet September 4-6, 2002, in La Jolla, CA. Each expert panel will assess peer-reviewed scientific studies and other information and individually provide scientific advice to address specific issues the Secretary will be considering in making the final finding.

Deadline for Submission of Nominations

NMFS is soliciting nominations by July 10, 2002. See ADDRESSES above.

Dated: June 26, 2002.
Phil Williams
Acting Director, Office of Protected Resources, National Marine Fisheries Service.

[FR Doc. 02-16538 Filed 7-1-02; 8:45 am]

BILLING CODE 3510-22-S